Proclamation 8355 of April 1, 2009

National Child Abuse Prevention Month, 2009

By the President of the United States of America

A Proclamation

When the child next door is maltreated, we all suffer. Every American has a stake in the well-being of our Nation's children. They are members of our communities, and they are our future. National Child Abuse Prevention Month provides the opportunity to underscore our commitment to preventing and responding appropriately to child abuse. This month, we emphasize the importance of understanding child abuse and the need for all Americans to help families overcome this devastating problem.

The tragedy of child abuse may afflict American children in different ways. Abuse may occur physically, sexually, and emotionally. Child neglect, another form of child maltreatment, may occur physically and emotionally. Understanding the forms of child abuse is critical to preventing and responding to maltreatment.

A well-informed and strong family is the surest defense against child abuse. To help educate and strengthen families, community members can offer their time and counsel to parents and children who may need assistance. For example, parent support groups provide an organized forum for assistance. More informally, community members may simply offer a helping hand to families under stress. More information about what families and communities can do is available at www.childwelfare.gov/preventing.

Civic organizations and government also have an important role to play. Civic groups offer essential support through education, assistance to those at risk, and treatment for victims. Government at the local, State, and Federal level must provide funding for services, conduct public education projects, and enforce child abuse laws.

As we recognize that we all suffer when our children are abused, that we all benefit from mutual concern and care, and that we all have a responsibility to help, more American children will grow up healthy, happy, and with unlimited potential for success.

NOW, THEREFORE, I, BARACK OBAMA, President of the United States of America, by virtue of the authority vested in me by the Constitution and laws of the United States, do hereby proclaim April 2009, as National Child Abuse Prevention Month. I encourage all citizens to help prevent and respond to child abuse by strengthening families and contributing to all children's physical, emotional, and developmental needs.

IN WITNESS WHEREOF, I have hereunto set my hand this first day of April, in the year of our Lord two thousand nine, and of the Independence of the United States of America the two hundred and thirty-third.

[FR Doc. E9-7925

Filed 4-3-09; 11:15 am]

Billing code 3195-W9-P